DEPARTMENT OF LABOR

Employment and Training Administration

Notice of Funding Opportunity and Solicitation for Grant Applications (SGA) for National Farmworker Jobs Training Program (NFJP)

AGENCY: Employment and Training Administration, Labor.

ACTION: Notice of Solicitation for Grant Applications (SGA).

Funding Opportunity Number: SGA-DFA-PY-10-05.

SUMMARY: The U. S. Department of Labor (DOL), Employment and Training Administration (ETA), Office of Workforce Investment, Division of Adult Services, announces a grant competition for operating the National Farmworker Jobs Program (NFJP), under section 167 of the Workforce Investment Act (WIA), 29 U.S.C. 2912. WIA generally requires DOL to conduct a general grants competition every two years to select NFJP grantees.

Under section 167(a) of WIA, the Secretary must award grants on a competitive basis to eligible entities for the purposes of carrying out the activities authorized under section 167. We are conducting this competition before the passage of the Department of Labor's Fiscal Year (FY) 2011 appropriation in anticipation of the appropriation of funds for Program Year (PY) 2011 NFJP grants, but we will not obligate any funds for PY 2011 grants unless and until they are appropriated. The FY 2011 appropriations request for this program is $78,410,000, to be allocated among state service delivery areas for operation of NFJP. All interested applicants should read this notice in its entirety.

The complete SGA and any subsequent SGA amendments are described in further detail on ETA's Web site at http://www.doleta.gov/grants or on http://www.grants.gov. The Web sites provide application information, eligibility requirements, review and selection procedures and other program requirements governing this solicitation.

DATES: The closing date for receipt of applications is May 2, 2011.

FOR FURTHER INFORMATION CONTACT: Jeannette Flowers, 200 Constitution Avenue, NW., Room N4716, Washington, DC 20210; telephone: 202-693-3322.

Signed at Washington, DC, this 11th day of March 2011.
B. Jai Johnson,
Grant Officer, Employment and Training Administration.

[FR Doc. 2011-6245 Filed 3-16-11; 8:45 am]

BILLING CODE 4510-FN-P